DEPARTMENT OF DEFENSE

Department of the Army

[Docket ID: USA-2010-0019]

Privacy Act of 1974; System of Records

AGENCY: Department of the Army, DoD.

ACTION: Notice to amend a system of records.

SUMMARY: The Department of the Army is proposing to amend a system of records notice in its existing inventory of records systems subject to the Privacy Act of 1974, (5 U.S.C. 552a), as amended.

DATES: The changes will be effective on September 10, 2010, unless comments are received that would result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones at (703) 428-6185.

SUPPLEMENTARY INFORMATION: The Department of the Army systems of records notices subject to the Privacy Act of 1974, (5 U.S.C. 552a), as amended, have been published in the Federal Register and are available from the Department of the Army, Privacy Office, U.S. Army Records Management and Declassification Agency, 7701 Telegraph Road, Casey Building, Suite 144, Alexandria, VA 22325-3905.

The specific changes to the records system being amended are set forth below followed by the notice, as amended, published in its entirety. The proposed amendments are not within the purview of subsection (r) of the Privacy Act of 1974, (5 U.S.C. 552a), as amended, which requires the submission of a new or altered system report.

Dated: August 6, 2010.
Mitchell S. Bryman,
Alternate OSD Federal Register Liaison Officer, Department of Defense.

A0614-100/200 SAIG

System name:

Inspector General Personnel System (July 25, 2008; 73 FR 43415).

Changes:

* * * * *

Categories of records in the system:

Delete entry and replace with “Personnel and computerized files containing name, rank/grade, Social Security Number (SSN), education, duty position, organization of assignment, date assigned, estimated departure date, job specialty, and relevant career data.”

* * * * *

A0614-100/200 SAIG

System name:

Inspector General Personnel System.

System location:

U.S. Army Inspector General Agency, Headquarters, Department of the Army, 1700 Army Pentagon, Washington, DC 20310-1700.

Categories of individuals covered by the system:

Any person assigned and/or detailed to the Offices of Inspectors General/Inspector General positions in Department of the Army and certain Department of Defense and Joint activities.

Categories of records in the system:

Personnel and computerized files containing name, rank/grade, Social Security Number (SSN), education, duty position, organization of assignment, date assigned, estimated departure date, job specialty, and relevant career data.

Authority for maintenance of the system:

10 U.S.C. 3013, Secretary of the Army; 10 U.S.C. 3020, Inspector General; Army Regulation 20-1, Inspector General Activities and Procedures and E.O. 9397 (SSN), as amended.

Purpose(s):

To manage assignment of members to Inspector General duties.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of the Army's compilation of systems of records notices also apply to this system.

Policies and practices for storing, retrieving, accessing, retaining, and disposing of records in the system:

Storage:

Paper files in folders and electronic storage media.

Retrievability:

By individual's name or Social Security Number.

Safeguards:

Files are stored in locked containers accessible only to authorized persons with an official need-to-know. Computer data base access is limited by terminal control and a password system to authorized persons with an official need-to-know.

Retention and disposal:

Information is retained until individual transfers or is separated; historical data remain in automated media for 4 years.

System manager(s) and address:

Office of the Inspector General, Headquarters, Department of the Army, 1700 Army Pentagon, Washington, DC 20310-1700.

Notification procedure:

Individuals seeking to determine if information about themselves is contained in this record system should address written inquiries to the Office of the Inspector General, Headquarters, Department of the Army, 1700 Army Pentagon, Washington, DC 20310-1700.

Individual should provide the full name, address, telephone number, Social Security Number (SSN), and signature.

Record access procedures:

Individuals seeking access to records about themselves contained in this record system should address written inquiries to the Office of the Inspector General, Headquarters, Department of the Army, 1700 Army Pentagon, Washington, DC 20310-1700.

Individual should provide the full name, address, telephone number, Social Security Number (SSN), and signature.

Contesting record procedures:

The Army's rules for accessing records, and for contesting contents and appealing initial agency determinations are contained in Army Regulation 340-21; 32 CFR part 505; or may be obtained from the system manager.

Record source categories:

From the individual, Army records and reports, and other sources providing or containing pertinent information.

Exemptions claimed for the system:

None.

[FR Doc. 2010-19769 Filed 8-10-10; 8:45 am]

BILLING CODE 5001-06-P